DEPARTMENT OF THE INTERIOR

National Park Service

[NPS-NCR-NAMA-NPS0034515; PPNCNAMAN70, PPMPSPD1Z.YM00000 (222); OMB Control Number 1024-0021]

Agency Information Collection Activities; National Capital Area Application for Public Gathering

AGENCY: National Park Service, Interior.

ACTION: Notice of information collection; request for comment.

SUMMARY: In accordance with the Paperwork Reduction Act of 1995, we, the National Park Service are proposing to renew an information collection.

DATES: Interested persons are invited to submit comments on or before March 13, 2023.

ADDRESSES: Send your comments on this information collection request (ICR) by mail to Phadrea Ponds, NPS Information Collection Clearance Officer (ADIR-ICCO), 12201 Sunrise Valley Drive, (MS-242) Reston, VA 20191 (mail); or by email at phadrea_ponds@nps.gov (email). Please reference Office of Management and Budget (OMB) Control Number 1024-0021 in the subject line of your comments.

FOR FURTHER INFORMATION CONTACT: To request additional information about this ICR, contact Marisa Richardson, Permit Specialist by email at marisa_richardson@nps.gov; or by telephone at 202-245-4715. Please reference OMB Control Number 1024-0021 in the subject line of your comments. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: In accordance with the Paperwork Reduction Act of 1995, (PRA, 44 U.S.C. 3501 et seq.) and 5 CFR 1320.8(d)(1), all information collections require approval under the PRA. As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Division of Permits Management of the National Mall and Memorial Parks is authorized by regulations codified in 36 CFR 7.96(g) to issue permits for public gatherings, including special events and demonstrations, held on NPS property within the National Capital Area. The regulations reflect the special demands on many urban National Capital Area parks used as sites for demonstrations and special events. A special event is defined as any presentation, program, or display that is recreational, entertaining, or celebratory in nature (e.g., sports events, pageants, celebrations, historical reenactments, regattas, entertainments, exhibitions, parades, fairs, festivals, and similar events). The term “demonstration” includes demonstrations, picketing, speechmaking, marching, holding vigils or religious services, and all other similar forms of conduct that involve the communication or expression of views or grievances. We use information from NPS Form 10-941 to determine:

• Identity of the person(s) or organization(s) requesting authorization to conduct a demonstration or special event, and to determine whether the applicant(s) meets statutory requirements to conduct the activity.

• Nature of the proposed activity and whether there is statutory authority to grant permission to engage in it.

• Whether the proposed activity is in derogation from park values or purposes.

• Relationship between the proposed activity and the primary purpose(s) for which the park area was established and relevant park planning documents.

• Whether there is a legitimate NPS need or interest in the proposed activity.

• Whether the proposed activity would require a commitment of public resources or facilities, whether such commitments are legitimate and appropriate, and whether they are available.

• Long-term or short-term adverse effects caused by the proposed activity on park resources, facilities, or programs.

• Need for attaching special conditions or mitigating measures to the permit, if issued.

• Total cost to the park of monitoring proposed activity.

• Whether a waiver of numerical limitations on the White House sidewalk and/or Lafayette Park should be granted.

• Law enforcement resources needed to assure public safety and site security, especially at the White House, during the activity.

Depending on the size and complexity of the proposed activity, we may require applicants to submit supporting documents such as:

• Site Plan: A complete site plan must be submitted if tents, stages, or any other type of structure are to be placed on parkland.

• Sign Plan: The plan will provide the overall size, number, and design of any signs or banners.

• Risk Management Plan: For events with significant equipment use during set-up and tear-down.

• Administrative Documents: We may require applicants submit a portable toilet contract, evidence of liability insurance coverage, IRS W-9 form, or an electronic funds transfer form.

We will use an electronic system to receive applications while continuing to accept hard-copy applications.

Title of Collection: National Capital Area Application for Public Gathering, 36 CFR 7.96(g).

OMB Control Number: 1024-0021.

Form Number: NPS Form 10-941, “Application for a Permit to Conduct a Demonstration or Special Event in Park Areas”.

Type of Review: Extension of a currently approved collection.

Respondents/Affected Public: Individuals, organizations, businesses, and State, local, or tribal governments.

Total Estimated Number of Annual Responses: 6,267.

Estimated Completion Time per Response: Varies from 0.5 hours to 1.5 hours, depending on activity.

Total Estimated Number of Annual Burden Hours: 5,221.

Respondent's Obligation: Required to obtain or retain a benefit.

Frequency of Collection: On occasion.

Total Estimated Annual Nonhour Burden Cost: $105,840. Of the Applications for Public Gatherings received from organizations, businesses, and individual approximately 882 are for special events. A $120 application fee is submitted to recover the cost of processing the request. The estimated annual non-hour burden cost associated with this information collection is $105,840 ($120 × 882 applicants). There is no application fee for permits to cover first amendment activities.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2023-00518 Filed 1-11-23; 8:45 am]

BILLING CODE 4312-52-P